DEPARTMENT OF ENERGY

Federal Energy Regulatory Commission

Combined Notice of Filings #1

Take notice that the Commission received the following electric corporate filings:

Docket Numbers: EC11-112-000.

Applicants: La Paloma Generating Company, LLC, SOLA LTD, Solus Alternative Asset Management LP.

Description: Application of La Paloma Generating Company, LLC, et al for Order Authorizing Disposition of Jurisdictional Facilities under Section 203 of the Federal Power Act and Request for Waivers and Expedited Action.

Filed Date: 08/31/2011.

Accession Number: 20110831-5233.

Comment Date: 5 p.m. Eastern Time on Wednesday, September 21, 2011.

Take notice that the Commission received the following electric rate filings:

Docket Numbers: ER10-2216-002.

Applicants: Entergy Arkansas, Inc.

Description: Entergy Arkansas, Inc. submits tariff filing per 35: Non-conforming SA Collation Filing to be effective 8/1/2010.

Filed Date: 08/31/2011.

Accession Number: 20110831-5189.

Comment Date: 5 p.m. Eastern Time on Wednesday, September 21, 2011.

Docket Numbers: ER11-4315-001.

Applicants: Gila River Power LLC.

Description: Gila River Power LLC submits tariff filing per 35: Gila River Supplement to Notice of Succession—Revised Tariff to be effective 8/31/2011.

Filed Date: 08/31/2011.

Accession Number: 20110831-5135.

Comment Date: 5 p.m. Eastern Time on Wednesday, September 21, 2011.

Docket Numbers: ER11-4405-000.

Applicants: Southwest Power Pool, Inc.

Description: Southwest Power Pool, Inc. submits tariff filing per 35.13(a)(2)(iii: 1876R1 Kansas Electric Power Cooperative, Inc. NITSA NOA to be effective 8/1/2011.

Filed Date: 08/31/2011.

Accession Number: 20110831-5105.

Comment Date: 5 p.m. Eastern Time on Wednesday, September 21, 2011.

Docket Numbers: ER11-4406-000.

Applicants: Granite State Electric Company.

Description: Granite State Electric Company submits tariff filing per 35.13(a)(2)(iii: Rate Update Filing for Granite State Borderline Tariff to be effective 5/1/2011.

Filed Date: 08/31/2011.

Accession Number: 20110831-5128.

Comment Date: 5 p.m. Eastern Time on Wednesday, September 21, 2011.

Docket Numbers: ER11-4407-000.

Applicants: Southwest Power Pool, Inc.

Description: Southwest Power Pool, Inc. submits tariff filing per 35.13(a)(2)(iii: 1636R5 Kansas Electric Power Cooperative, Inc. to be effective 8/1/2011.

Filed Date: 08/31/2011.

Accession Number: 20110831-5129.

Comment Date: 5 p.m. Eastern Time on Wednesday, September 21, 2011.

Docket Numbers: ER11-4408-000.

Applicants: Southwest Power Pool, Inc.

Description: Southwest Power Pool, Inc. submits tariff filing per 35.13(a)(2)(iii: Revision to Correct an Inadvertent Error in Schedule 11 Addendum 1 to be effective 4/1/2011.

Filed Date: 08/31/2011.

Accession Number: 20110831-5130.

Comment Date: 5 p.m. Eastern Time on Wednesday, September 21, 2011.

Docket Numbers: ER11-4409-000.

Applicants: American Transmission Systems, Incorporated.

Description: American Transmission Systems, Incorporated submits tariff filing per 35.15: Cancellation of OATT to be effective 8/31/2011.

Filed Date: 08/31/2011.

Accession Number: 20110831-5143.

Comment Date: 5 p.m. Eastern Time on Wednesday, September 21, 2011.

Docket Numbers: ER11-4410-000.

Applicants: EWO Marketing, Inc.

Description: EWO Marketing, Inc. submits tariff filing per 35.13(a)(2)(iii: EWOM-SRMPA SRPSA Filing to be effective 11/1/2011.

Filed Date: 08/31/2011.

Accession Number: 20110831-5165.

Comment Date: 5 p.m. Eastern Time on Wednesday, September 21, 2011.

Docket Numbers: ER11-4411-000.

Applicants: Oklahoma Gas and Electric Company.

Description: Notice of Cancellation of Rate Schedule WM-1, Service Agreement No. 95 of Oklahoma Gas and Electric Company.

Filed Date: 08/31/2011.

Accession Number: 20110831-5168.

Comment Date: 5 p.m. Eastern Time on Wednesday, September 21, 2011.

Docket Numbers: ER11-4412-000.

Applicants: Midwest Independent Transmission System Operator, Inc.

Description: Midwest Independent Transmission System Operator, Inc. submits tariff filing per 35.13(a)(2)(iii: Cap X Fargo Phase 2 Amendment to be effective 9/1/2011.

Filed Date: 08/31/2011.

Accession Number: 20110831-5179.

Comment Date: 5 p.m. Eastern Time on Wednesday, September 21, 2011.

Docket Numbers: ER11-4413-000.

Applicants: Midwest Independent Transmission System Operator, Inc.

Description: Midwest Independent Transmission System Operator, Inc. submits tariff filing per 35.13(a)(2)(iii: Cap X Fargo Phase 2 to be effective 9/1/2011.

Filed Date: 08/31/2011.

Accession Number: 20110831-5181.

Comment Date: 5 p.m. Eastern Time on Wednesday, September 21, 2011.

Docket Numbers: ER11-4414-000.

Applicants: New England Power Pool Participants Committee.

Description: New England Power Pool Participants Committee submits tariff filing per 35.13(a)(2)(iii: Sep 2011 Membership Filing to be effective 9/1/2011.

Filed Date: 08/31/2011.

Accession Number: 20110831-5185.

Comment Date: 5 p.m. Eastern Time on Wednesday, September 21, 2011.

Docket Numbers: ER11-4415-000.

Applicants: Entergy Gulf States Louisiana, LLC.

Description: Entergy Gulf States Louisiana, LLC submits tariff filing per 35.13(a)(2)(iii: EGSL-SRMPA Filing to be effective 11/1/2011.

Filed Date: 08/31/2011.

Accession Number: 20110831-5186.

Comment Date: 5 p.m. Eastern Time on Wednesday, September 21, 2011.

Docket Numbers: ER11-4415-000.

Applicants: Entergy Gulf States Louisiana, LLC.

Description: Supplemental Information/Request of Entergy Gulf States Louisiana, LLC.

Filed Date: 08/31/2011.

Accession Number: 20110831-5226.

Comment Date: 5 p.m. Eastern Time on Wednesday, September 21, 2011.

Docket Numbers: ER11-4416-000.

Applicants: Entergy Power, LLC.

Description: Entergy Power, LLC submits tariff filing per 35.13(a)(2)(iii: EPL-EWO Rate Schedule to be effective 11/1/2011.

Filed Date: 08/31/2011.

Accession Number: 20110831-5187.

Comment Date: 5 p.m. Eastern Time on Wednesday, September 21, 2011.

Docket Numbers: ER11-4417-000.

Applicants: Entergy Arkansas, Inc.

Description: Entergy Arkansas, Inc. submits tariff filing per 35.13(a)(2)(iii: Transfer Agreements to be effective 8/1/2011.

Filed Date: 09/01/2011.

Accession Number: 20110901-5001.

Comment Date: 5 p.m. Eastern Time on Thursday, September 22, 2011.

Docket Numbers: ER11-4418-000.

Applicants: ISO New England Inc.

Description: ISO New England Inc. Resource Termination Filing—Constellation.

Filed Date: 09/01/2011.

Accession Number: 20110901-5092.

Comment Date: 5 p.m. Eastern Time on Thursday, September 22, 2011.

Take notice that the Commission received the following qualifying facility filings:

Docket Numbers: QF11-470-000.

Applicants: Catawba County, North Carolina.

Description: Form 556 of Catawba County, North Carolina for Catawba County EcoComplex Greenhouse CHP.

Filed Date: 09/01/2011.

Accession Number: 20110901-5070.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2011.
Nathaniel J. Davis, Sr.,
Deputy Secretary.

[FR Doc. 2011-23080 Filed 9-8-11; 8:45 am]

BILLING CODE 6717-01-P